DEPARTMENT OF THE INTERIOR

National Park Service

Notice of Availability of a Record of Decision (ROD) for the Final Environmental Impact Statement/General Management Plan Amendment (FEIS/GMPA), Elkmont Historic District, Great Smoky Mountains National Park

AGENCY: National Park Service, Interior.

ACTION: Notice of Availability of a Record of Decision (ROD) for the Final Environmental Impact Statement/General Management Plan Amendment (FEIS/GMPA), Elkmont Historic District, Great Smoky Mountains National Park.

SUMMARY: Pursuant to the National Environmental Policy Act of 1969, 42 U.S.C. 332(2)(C), the National Park Service (NPS) announces the availability of the ROD for the FEIS/GMPA for the Elkmont Historic District in the Great Smoky Mountains National Park, Tennessee.

On June 30, 2009, the Regional Director, NPS, Southeast Region, approved the ROD for the project. As soon as practicable, the NPS will begin to implement the FEIS/GMPA, described as the selected action (the preferred Alternative C) contained in the FEIS/GMPA issued on May 1, 2009. Under the selected alternative, the NPS will preserve a representative collection of 19 historic buildings in the District of the park. The District is listed in the National Register of Historic Places (NRHP). Within the District, the core of the former Appalachian Club resort community known as “Daisy Town” will be preserved including the Appalachian Clubhouse and a cluster of 16 cabins. Fifteen of these cabins are identified as contributing to the significance of the District. An additional non-contributing cabin will be preserved to maintain the visual continuity of the Daisy Town streetscape. The exteriors of these buildings will be restored to approximate the appearance of this portion of the District during its early 20th century period of significance. The Appalachian Clubhouse interior will be rehabilitated for public rental and day use activities. The 16 cabins will be retained for interpretive purposes.

In addition to the Daisy Town buildings, the exterior of the Chapman cabin in the “Society Hill” portion of the District will be restored to the early 20th century period of significance and retained for interpretive purposes, the exterior of the Spence cabin in “Millionaire's Row” will also be restored and its interior rehabilitated for public rental and day use. The gravel pathway from the Appalachian Clubhouse to Jakes Creek Cemetery will be restored. Historic plantings that are not invasive would be retained throughout the District. To provide access and circulation, existing parking areas will be reconfigured and resurfaced, and a new day use parking area will be constructed.

Altogether, 30 buildings identified as contributing to the District's significance will be removed. Buildings slated for removal include the Wonderland Hotel Annex, 26 cabins, and 3 garages. The remains of the structurally failed Wonderland Hotel were removed in December 2006.

The preserved buildings and cultural landscape features, along with wayside exhibits and other interpretive media, will be used to enhance visitor understanding of the history and development of the Elkmont vacation community, its architecture, and the area's important cultural and natural resources.

To increase species diversity, improve and increase wildlife habitat, and provide soil stabilization within the District, the NPS will restore native plant communities in suitable areas, including the sites where buildings have been removed. Removal of buildings within the Little River floodplain would allow for gradual succession to native communities.

The selected alternative will not generate wastewater discharge above the permitted allowable level from the sewage treatment plant or contribute nonpoint runoff into the Little River or its tributaries. No additional structures or activities within the 100-year floodplain are proposed.

The approved plan enhances opportunities for visitors to interact with and appreciate the historic district's resources while providing for the preservation or adaptive use of the park's resources when implemented. The Record of Decision includes a description of the project's background, a statement of the decision made, synopses of other alternatives considered, the basis for the decision, findings on impairment of park resources and values, a description of the environmentally preferred alternative, a listing of measures to minimize environmental harm, and an overview of public involvement in the decision-making process.

DATES: The ROD was signed by the Regional Director, NPS, Southeast Region, on June 30, 2009.

ADDRESSES: Copies of the ROD are available from the Superintendent, Great Smoky Mountains National Park, 107 Park Headquarters Road, Gatlinburg, Tennessee 37738; telephone: 865-436-1201.

SUPPLEMENTARY INFORMATION: The NPS evaluated six other alternatives for the treatment and management of the District in the GMPA/EIS. These alternatives are described in full in the FEIS/GMPA. Among the alternatives considered, the selected alternative best protects the diversity of park resources while also maintaining a range of quality visitor experiences, meets NPS purposes and goals for the Elkmont Historic District of Great Smoky Mountains National Park, and meets National Environmental Policy Act goals. The selected alternative will not result in the impairment of park resources and will allow the NPS to conserve park resources and provide for their enjoyment by visitors.

Authority: The authority for publishing this notice is 40 CFR 1506.6 (b).

For Further Information CONTACT: Contact the Superintendent, Great Smoky Mountains National Park, at the address and telephone number shown above. An electronic copy of the document is available on the Internet at http://parkplanning.nps.gov/.

The responsible official for this FEIS is the Regional Director, Southeast Region, National Park Service, 100 Alabama Street, SW., 1924 Building, Atlanta, Georgia 30303.

Dated: October 5, 2009.
David Vela,
Regional Director, Southeast Region.

[FR Doc. E9-29853 Filed 12-15-09; 8:45 am]

BILLING CODE 4310-70-P